DEPARTMENT OF THE INTERIOR

Bureau of Ocean Energy Management

[Docket No. BOEM-2025-0020]

Notice on Outer Continental Shelf Oil and Gas Lease Sales

AGENCY: Bureau of Ocean Energy Management, Interior.

ACTION: List of restricted joint bidders.

SUMMARY: Pursuant to the Energy Policy and Conservation Act of 1975 and the Bureau of Ocean Energy Management's (BOEM) regulatory restrictions on joint bidding, BOEM is publishing this list of restricted joint bidders. Each entity within one of the following groups is restricted from bidding with any entity in any of the other groups listed below at Outer Continental Shelf oil and gas lease sales held during the bidding period of November 1, 2025, through April 30, 2026.

DATES: This list of restricted joint bidders covers the bidding period of November 1, 2025, through April 30, 2026, and succeeds all prior published lists.

SUPPLEMENTARY INFORMATION:

Group I

BP America Production Company

BP Exploration & Production Inc.

BP Products North America, Inc.

Group II

Chevron Corporation

Chevron U.S.A. Inc.

Unocal Corporation

Union Oil Company of California

Noble Energy, Inc.

Hess Corporation

Chevron Midcontinent, L.P.

Group III

Eni Marketing Inc.

Eni BB Petroleum Inc.

Eni US Operating Co. Inc.

Eni Petroleum Co. Inc.

Eni Next LLC

Eni USA Gas Marketing LLC

Eni GoM LLC

Versalis Americas Inc.

Eni Trading & Shipping Inc.

Group IV

Equinor ASA

Equinor Gulf of Mexico LLC

Equinor USA E&P Inc.

Group V

Exxon Mobil Corporation

ExxonMobil Upstream Company

Group VI

Shell USA, Inc.

Shell Offshore Inc.

SWEPI LP

Shell Frontier Oil & Gas Inc.

SOI Finance Inc.

Shell Gulf of Mexico Inc.

Group VII

TotalEnergies E&P USA, Inc.

TotalEnergies SE

Even if an entity does not appear on the above list, BOEM may disqualify and reject certain joint or single bids submitted by an entity if that entity is chargeable for the prior production period with an average daily production in excess of 1.6 million barrels of crude oil, natural gas, and natural gas liquids. See 30 CFR 556.512.

Authority: 42 U.S.C. 6213; and 30 CFR 556.511-556.515.

Matthew N. Giacona,
Acting Director, Bureau of Ocean Energy Management.

[FR Doc. 2025-19780 Filed 11-3-25; 8:45 am]

BILLING CODE 4340-98-P